DEPARTMENT OF THE INTERIOR

National Park Service

Notice of Inventory Completion: Phoebe A. Hearst Museum of Anthropology, University of California, Berkeley, Berkeley, CA

AGENCY: National Park Service, Interior.

ACTION: Notice.

Notice is here given in accordance with the Native American Graves Protection and Repatriation Act (NAGPRA), 25 U.S.C. 3003, of the completion of an inventory of human remains and associated funerary objects in the control of the Phoebe A. Hearst Museum of Anthropology, University of California, Berkeley, Berkeley, CA. The human remains and associated funerary objects were removed from Amador and Calaveras Counties, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

An assessment of the human remains, catalogue records, and relevant associated documents was made by the Phoebe A. Hearst Museum of Anthropology professional staff in consultation with representatives of the Buena Vista Rancheria of Me-Wuk Indians of California; Cher-Ae Heights Indian Community of the Trinidad Rancheria, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; and United Auburn Indian Community of the Auburn Rancheria of California.

In 1952 and 1953, human remains representing a minimum of 65 individuals (29 catalogue records) were removed from CA-Cal-83, a site located on the eastern slope of Golden Gate Hill in Calaveras County, CA, by E. Treganza of the University of California Archaeological Survey. The human remains and associated funerary objects were accessioned into the museum between 1952 and 1953 (Accessions UCAS 175 and UCAS 233 respectively). No known individuals were identified. The 15,213 associated funerary objects are 2 balls, 14,663 beads, 5 belt fragments, 9 animal bones, 8 bottle fragments, 1 bowl, 1 brush, 1 buckle, 39 buttons, 1 cane fragment, 1 clasp, 4 cloth fragments, 2 coins, 10 colored fragments, 1 container, 12 copper fragments, 1 cordage, 5 crystals, 1 cylinder, 1 disc, 10 metal objects, 1 file, 13 lithics, 13 eating utensils, 4 handles, 1 heel, 13 knives, 2 mirrors, 1 mortar, 14 iron nails, 23 obsidian flakes and fragments, 2 lumps of ochre, 94 ornaments, 2 pebbles, 79 pendants, 1 pestle, 4 pins, 1 point, 3 projectile points, 1 rivet, 2 rock fragments, 5 scissors fragments, 13 scrapers, 25 sequins, 44 shells, 10 shoe fragments, 1 string, 11 textile fragments, 1 thimble, 8 tubes, 1 twig, 17 whistles, 21 wood fragments, 1 shovel blade, and 3 soil samples.

In 1950, human remains representing a minimum of 12 individuals (12 catalogue records) were removed from CA-Ama-3 (Bamert Cave), a site located on a hill overlooking the Camanche Reservoir in Amador County, CA, by R.F. Heizer and A.E. Treganza. The human remains and associated funerary objects were accessioned into the museum in that same year. No known individuals were identified. The one associated funerary object is the burial encasement of the individual in catalogue record no. 1-164179a, which includes coiled basketry, twined burden basket, tule reed mat, milkweed cordage, and grass lining.

Chronological information is available for the human remains, associated funerary objects, and other site-specific artifacts present at both CA-Cal-83 and CA-Ama-3. One radiocarbon date (on charcoal) and the presence of artifacts such as coins (minted in 1856) and casket hardware (patented in 1865) indicate that these locations were still in use for burial purposes in historic times. The two sites are located in the aboriginal territory of the Northern Sierra Miwok as indicated by ethnographic and linguistic data. In addition, oral history and native folklore contain numerous geographic references to these parts of Calaveras and Amador Counties. The archeological evidence for the region is indicative of cultural continuity from 1500 BP, with the expansion of the ancestral Miwok into the Sierra, to the emergence of the historic Sierra Miwok after 750 BP. The Amador Phase (750-150BP) contains archeological traits that are consistent with ethnographic Sierra Miwok culture. Descendants of the Northern Sierra Miwok are members of the Buena Vista Rancheria of Me-Wuk Indians of California; Cher-Ae Heights Indian Community of the Trinidad Rancheria, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; and United Auburn Indian Community of the Auburn Rancheria of California.

Officials of the Phoebe A. Hearst Museum of Anthropology have determined that, pursuant to 25 U.S.C. 3001 (9-10), the human remains described above represent the physical remains of 77 individuals of Native American ancestry. Officials of the Phoebe A. Hearst Museum of Anthropology have also determined that, pursuant to 25 U.S.C. 3001 (3)(A), that the 15,214 objects described above are reasonably believed to have been placed with or near individual human remains at the time of death or later as part of the death rite or ceremony. Lastly, officials of the Phoebe A. Hearst Museum of Anthropology have determined that, pursuant to 25 U.S.C. 3001 (2), there is a relationship of shared group identity that can be reasonably traced between the Native American human remains and associated funerary objects and the Buena Vista Rancheria of Me-Wuk Indians of California; Cher-Ae Heights Indian Community of the Trinidad Rancheria, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; and United Auburn Indian Community of the Auburn Rancheria of California.

Representatives of any other Indian tribe that believes itself to be culturally affiliated with the human remains and associated funerary objects should contact Judd King, Interim Director of the Phoebe A. Hearst Museum of Anthropology, University of California, Berkeley, CA 94720, before December 26, 2008. Repatriation of the human remains and associated funerary objects to the Buena Vista Rancheria of Me-Wuk Indians of California; Cher-Ae Heights Indian Community of the Trinidad Rancheria, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; and United Auburn Indian Community of the Auburn Rancheria of California may proceed after that date if no additional claimants come forward.

The Phoebe A. Hearst Museum of Anthropology is responsible for notifying the Buena Vista Rancheria of Me-Wuk Indians of California; Cher-Ae Heights Indian Community of the Trinidad Rancheria, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; and United Auburn Indian Community of the Auburn Rancheria of California that this notice has been published.

Dated: October 23, 2008
Sherry Hutt,
Manager, National NAGPRA Program.

[FR Doc. E8-28006 Filed 11-24-08; 8:45 am]

BILLING CODE 4312-50-S